DEPARTMENT OF DEFENSE

Defense Acquisition Regulations System

48 CFR Parts 227 and 252

[Docket DARS-2020-0033]

RIN 0750-AK84

Defense Federal Acquisition Regulation Supplement: Small Business Innovation Research Program Data Rights (DFARS Case 2019-D043)

AGENCY: Defense Acquisition Regulations System, Department of Defense (DoD).

ACTION: Announcement of meeting; reopening of comment period.

SUMMARY: DoD is hosting a public meeting to engage in discussion and obtain views of experts and interested parties in Government and the private sector regarding implementation in the Defense Federal Acquisition Regulation Supplement (DFARS) of the data rights portions of the Small Business Innovation Research Program and Small Business Technology Transfer Program Policy Directives.

DATES: Submission of Comments: The comment period for the advance notice of proposed rulemaking published on August 31, 2020 (85 FR 53758), is reopened. Submit any comments on the advance notice of proposed rulemaking in writing to the address shown in ADDRESSES on or before January 31, 2021, to be considered in formation of the proposed rule.

Public Meeting: A virtual public meeting will be held on January 14, 2021, from 12:30 p.m. to 4:30 p.m. Eastern time. The public meeting will end at the stated time, or when the discussion ends, whichever comes first. DoD will also reserve January 15, 2021, from 12:30 p.m. to 4:30 p.m. Eastern time, if DoD determines additional discussion is necessary.

Registration: Registration to participate in this meeting must be received no later than close of business on January 7, 2021. Information on how to register for the public meeting may be found in the SUPPLEMENTARY INFORMATION section of this notice.

ADDRESSES:

Public Meeting: A virtual public meeting will be held using Microsoft video conferencing software.

Submission of Comments: Submit comments identified by DFARS Case 2019-D043, using any of the following methods:

o Federal eRulemaking Portal: http://www.regulations.gov. Search for “DFARS Case 2019-D043.” Select “Comment Now” and follow the instructions provided to submit a comment. Please include “DFARS Case 2019-D043” on any attached documents.

○ Email: osd.dfars@mail.mil. Include DFARS Case 2019-D043 in the subject line of the message.

○ Mail: Defense Acquisition Regulations System, Attn: Ms. Kimberly Ziegler, OUSD(A&S)DPC/DARS, Room 3B938, 3060 Defense Pentagon, Washington, DC 20301-3060.

Comments received generally will be posted without change to http://www.regulations.gov, including any personal information provided. To confirm receipt of your comment(s), please check www.regulations.gov, approximately two to three days after submission to verify posting (except allow 30 days for posting of comments submitted by mail).

FOR FURTHER INFORMATION CONTACT: Ms. Kimberly Ziegler, telephone 571-372-6095.

SUPPLEMENTARY INFORMATION: DoD is interested in continuing a dialogue with experts and interested parties in Government and the private sector regarding amending the DFARS to implement the intellectual property (e.g., data rights) portions of the revised Small Business Innovation Research (SBIR) Program and Small Business Technology Transfer (STTR) Program Policy Directives. Previously, DoD published an advance notice of proposed rulemaking (ANPR) on August 31, 2020, at 85 FR 53758, providing draft DFARS revisions and requesting written public comments.

Registration: Individuals wishing to participate in the virtual meeting must register by January 7, 2021, to facilitate entry to the meeting. Interested parties may register for the meeting by sending the following information via email to osd.dfars@mail.mil and include “Public Meeting, DFARS Case 2019-D043” in the subject line of the message:

• Full name.

• Valid email address, which will be used for admittance to the meeting.

• Valid telephone number, which will serve as a secondary connection method. Registrants must provide the telephone number they plan on using to connect to the virtual meeting.

• Company or organization name.

• Whether the individual desires to make a presentation.

Pre-registered individuals will receive instructions for connecting using the Microsoft video conferencing software not more than one week before the meeting is scheduled to commence.

Presentations: Presentations will be limited to 5 minutes per company or organization. This limit may be subject to adjustment, depending on the number of entities requesting to present, in order to ensure adequate time for discussion. If you wish to make a presentation, please submit an electronic copy of your presentation via email to osd.dfars@mail.mil no later than the registration date for the specific meeting. Each presentation should be in PowerPoint to facilitate projection during the public meeting and should include the presenter's name, title, organization affiliation, telephone number, and email address on the cover page.

Correspondence, Comments, and Presentations: Please cite “Public Meeting, DFARS Case 2019-D043” in all correspondence related to the public meeting. There will be no transcription at the meeting. The submitted presentations will be the only record of the public meeting and will be posted to the following website at the conclusion of the public meeting: https://www.acq.osd.mil/dpap/dars/technical_data_rights.html.

The comment period for the proposed rule is reopened and extended through January 31, 2021, to provide additional time for interested parties to comment on the proposed DFARS changes.

List of Subjects in 48 CFR Parts 227 and 252

Government procurement.

Jennifer D. Johnson,
Regulatory Control Officer, Defense Acquisition Regulations System.

[FR Doc. 2020-26741 Filed 12-3-20; 8:45 am]

BILLING CODE 5001-06-P